DEPARTMENT OF THE TREASURY

Internal Revenue Service

Open Meeting of the Taxpayer Advocacy Panel, SB/SE Payroll Taxes Committee

ACTION: Notice.

SUMMARY: An open meeting of the Taxpayer Advocacy Panel, SB/SE Payroll Taxes Committee will be conducted (via teleconference).

DATES: The meeting will be held Tuesday, December 3, 2002.

FOR FURTHER INFORMATION CONTACT: Mary Peterson or Judi Nicholas at 1-888-912-1227, or 206-220-6096.

SUPPLEMENTARY INFORMATION: Notice is hereby given pursuant to section 10(a)(2) of the Federal Advisory Committee Act, 5 U.S.C. App. (1988) that an open meeting of the Taxpayer Advocacy Panel, SB/SE Payroll Taxes Committee will be held Tuesday, December 3, 2002, from 3 pm e.s.t. to 5 pm e.s.t. via a telephone conference call. The public is invited to make oral comments. Individual comments will be limited to 5 minutes. If you would like to have the TAP consider a written statement, please call 1-888-912-1227 or 206-220-6096, or write Mary Peterson, 915 2nd Avenue, MS W-406, Seattle, WA 98174. Due to limited conference lines, notification of intent to participate in the telephone conference call meeting must be made with either Mary Peterson or Judi Nicholas. Ms. Peterson and Ms. Nicholas can be reached at 1-888-912-1227 or 206-220-6096.

The agenda will include the following: various IRS issues.

Note: Last minute changes to the agenda are possible and could prevent effective advance notice.

Dated: November 7, 2002.
John J. Mannion,
Director, Program Planning & Quality.

[FR Doc. 02-29383 Filed 11-19-02; 8:45 am]

BILLING CODE 4830-01-P